DEPARTMENT OF ENERGY

Federal Energy Regulatory Commission

[Docket No. RP01-564-000]

Northern Border Pipeline Company; Notice of Tariff Filing and Annual Charge Adjustment

September 7, 2001.

Take notice that on August 31, 2001, Northern Border Pipeline Company (Northern Border) tendered for filing to become part of Northern Border Pipeline Company's FERC Gas Tariff, First Revised Volume No. 1, the following tariff sheet to become effective October 1, 2001:

First Revised Sheet Number 99

Northern Border states that the purpose of this filing is to update Northern Border's tariff to reflect the Annual Charge Adjustment (ACA) factor effective for the twelve-month period beginning October 1, 2001 pursuant to Section 154.402 of the Commission's regulations and Section 16 of the General Terms and Conditions of Northern Border's tariff. Northern Border states that its new ACA factor will be $0.0021 per Dth. This new factor was specified by the Commission at the time the Commission calculated the annual charge bill for fiscal year 2001, and is a decrease from its current ACA factor of $0.0001 per Dth.

Northern Border states that copies of this filing are being mailed to its customers, state commission and other interested parties.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23116 Filed 9-14-01; 8:45 am]

BILLING CODE 6717-01-P